DEPARTMENT OF TRANSPORTATION

Research and Special Programs Administration

[Docket No. RSPA-03-16246]

Pipeline Safety: Direct Assessment Workshop

AGENCY: Office of Pipeline Safety, Research and Special Programs Administration, DOT.

ACTION: Notice of workshop on direct assessment technology.

SUMMARY: The Research and Special Programs Administration's (RSPA) Office of Pipeline Safety (OPS) and the National Association of Pipeline Safety Representatives (NAPSR) will cosponsor a workshop with the pipeline industry trade associations (Interstate Natural Gas Association of America, American Gas Association, NACE International, and American Public Gas Association) to discuss direct assessment technology. The workshop is intended to provide a forum for the discussion of direct assessment technology as it relates to natural gas pipeline integrity management. RSPA/OPS will gather issues presented at the workshop needing additional clarification or guidance material development.

DATES: Tuesday, November 4th, 2003, from 7 a.m. to 5:30 p.m.

ADDRESSES: The public may attend the meeting at the Wyndham Greenspoint North Hotel, 12400 Greenspoint Drive, Houston, Texas 77060, (281) 875-2222, http://www.wyndhamhouston.com

Operators of natural gas transmission pipelines are urged to attend. To facilitate meeting planning, advance registration for these meetings is strongly encouraged and can be accomplished online at the following Web site: http://primis/rspa.dot.gov/meetings

Members of the public are welcome to attend the workshop. An opportunity will be provided for the public to ask questions or make short statements on the topics under discussion. You may submit written comments by mail or deliver to the Dockets Facility, U.S. Department of Transportation (DOT), Room PL-401, 400 Seventh Street, SW, Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should identify the docket and notice numbers which appear in the heading of this notice. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the April 11, 2000, issue of the Federal Register (Volume 65, Number 70; Pages 19477-78) or you may visit http://dms.dot.gov.

Information on Services for Individuals with Disabilites: For information on facilities or services for individuals with disabilities or to request special assistance at the meeting, contact Juan Carlos Martinez (tel: 202-366-1933; E-mail: juan.martinez@rspa.dot.gov).

FOR FURTHER INFORMATION CONTACT: Zach Barrett, (tel: 405-954-5559; E-mail zach.barrett@rspa.dot.gov), regarding the subject matter of this notice. Additional information about gas integrity management can be found at http://primis.rspa.dot.gov/gasimp/index.htm. You can read comments and other material in the docket on the Internet at: http://dms.dot.gov.

SUPPLEMENTARY INFORMATION: Direct Assessment is an integrity assessment method that utilizes a process to evaluate certain threats to pipeline integrity. It consists of a combination of pipeline corrosion assessment techniques and data integration. The Pipeline Safety Improvement Act of 2002 required RSPA/OPS to issue regulations, not later than December 17, 2003, prescribing standards for an operator's conduct of risk analysis and adoption and implementation of an integrity management program and for defining direct assessment. RSPA/OPS issued a notice of proposed rulemaking on January 28, 2003, proposing regulations to require a gas transmission operator to conduct a risk analysis and adopt an integrity management program. As part of the required integrity management program, each operator of a gas transmission pipeline facility must conduct a baseline integrity assessment. RSPA/OPS defines direct assessment as a primary assessment technique for any transmission pipelines or as a supplement to other assessment techniques. Although the application of corrosion assessment techniques such as Close-Interval or Direct Current Voltage Gradient surveys have been in place for some time, their integration with other information in a structured process to identify integrity concerns is a new industry practice for many pipeline operators. NACE International has published Standard RPO502-2002 “Pipeline External Corrosion Direct Assessment Methodology,” providing a recommended practice for external corrosion direct assessment. NACE International is also developing standards for internal corrosion and stress corrosion cracking direct assessment methodologies. The adoption of these standards into the pipeline safety regulations is being considered by RSPA/OPS. RSPA/OPS and NAPSR recently participated in several direct assessment demonstration programs sponsored by the industry to further knowledge and discussions regarding the implementation of direct assessment methodologies for integrity management.

RSPA/OPS is co-sponsoring this public workshop with NAPSR and the industry trade associations to solicit comments on improving and understanding direct assessment technology as it relates to the proposed gas integrity management regulation.

Authority: 49 U.S.C. 60102, 60109, 60117.

Issued in Washington, DC, on October 1, 2003.
Stacey L. Gerard,
Associate Administrator for Pipeline Safety.

[FR Doc. 03-25420 Filed 10-7-03; 8:45 am]

BILLING CODE 4910-60-P